DEPARTMENT OF AGRICULTURE

Forest Service

California Coast Provincial Advisory Committee

AGENCY: Forest Service, USDA.

ACTION: Notice of meeting.

SUMMARY: The California Coast Provincial Advisory Committee (CCPAC) will meet for one day on April 25, 2007 in Ukiah, California. The purpose of the meeting is to discuss issues relating to implementing the Northwest Forest Plan (NWFP).

DATES: The meeting will be held from 10 a.m. to 5 p.m. on April 25, 2007.

ADDRESSES: Bureau of Land Management Field Office, 2550 North State Street, Ukiah, California.

FOR FURTHER INFORMATION CONTACT: Kathy Allen, Committee Coordinator, USDA, Six Rivers National Forest, 1330 Bayshore Way, Eureka, CA 95501 (707) 441-3557 or kmallen@fs.fed.us.

SUPPLEMENTARY INFORMATION: Agenda topics to be covered include: (1) Forest Service Planning Rules; (2) Survey and Manage Update; (3) National Park Service Centennial Initiative; (4) Monitoring Program Update; (5) Lacks Creek Project; (6) Regional Interagency Ecosystem Committee (RIEC) Decisions; (7) Aquatic Conservation Strategy; and (7) NWFP Update.

The meeting is open to the public. Public input opportunity will be provided and individuals will have the opportunity to address the Committee at that time.

Dated: April 13, 2007.
William Metz,
Deputy Forest Supervisor.

[FR Doc. 07-1934 Filed 4-18-07; 8:45 am]

BILLING CODE 3410-11-M